ENVIRONMENTAL PROTECTION AGENCY

40 CFR Part 770

[EPA-HQ-OPPT-2012-0018; FRL-9910-75]

RIN 2070-AJ92

Formaldehyde Emission Standards for Composite Wood Products

AGENCY: Environmental Protection Agency (EPA).

ACTION: Proposed rule; extension of comment period.

SUMMARY: On June 10, 2013, EPA published a notice of proposed rulemaking in the Federal Register entitled “Formaldehyde Emissions Standards for Composite Wood Products.” On April 8, 2014, EPA published a notice in the Federal Register announcing a public meeting and reopening the comment period for 30 days for comments related to the treatment of laminated products under the proposed rule. Based on requests from the public, EPA extended the public comment period. On May 6, 2014, EPA posted a memorandum in the docket for this proposed rule. That memorandum ensured that the docket would remain open until the announcement of the extension of the public comment period, which was set to end on May 8, 2014, could be published in the Federal Register. On May 6, 2014, an Agency-compiled list of stakeholders was notified of the extension of the comment period via email. This document announces the extension of the comment period until May 26, 2014.

DATES: Comments, identified by docket identification (ID) number EPA-HQ-OPPT-2012-0018, must be received on or before May 26, 2014.

ADDRESSES: Follow the detailed instructions as provided under ADDRESSES in the Federal Register document of June 10, 2013 (78 FR 34820) (FRL-9342-3).

FOR FURTHER INFORMATION CONTACT: Sara Kemme, National Program Chemicals Division (7404T), Office of Pollution Prevention and Toxics, Environmental Protection Agency, 1200 Pennsylvania Ave. NW., Washington, DC 20460-0001; telephone number: (202) 566-0511; email address: Kemme.Sara@epa.gov.

For general information contact: The TSCA-Hotline, ABVI-Goodwill, 422 South Clinton Ave., Rochester, NY 14620; telephone number: (202) 554-1404; email address: TSCA-Hotline@epa.gov.

SUPPLEMENTARY INFORMATION: This document formally announces the extension of the public comment period established in the Federal Register of April 8, 2014 (79 FR 19306) (FRL-9909-05). In that document, EPA announced a public meeting on April 28, 2014, and reopened the comment period for the June 10, 2013 Federal Register document for 30 days to allow additional comments to be submitted by the public and interested stakeholders specifically on the issue of laminated products. On May 6, 2014, EPA posted a memorandum in the docket for this proposed rule. That memorandum ensured that the docket would remain open until the announcement of the extension of the public comment period, which was set to end on May 8, 2014, could be published in the Federal Register. On May 6, 2014, an Agency-compiled list of stakeholders was notified of the extension of the comment period via email. On May 12, 2014, the Agency placed a transcript of the public meeting in the docket for this proposed rule. This document announces the extension of the comment period until May 26, 2014.

To submit comments, or access the docket, please follow the detailed instructions as provided under ADDRESSES in the June 10, 2013 Federal Register document. If you have questions, consult the technical person listed under FOR FURTHER INFORMATION CONTACT.

List of Subjects in 40 CFR Part 770

Environmental protection, Formaldehyde, Reporting and recordkeeping requirements, Toxic substances, Wood.

Dated: May 6, 2014.
Louise P. Wise,
Acting Assistant Administrator, Office of Chemical Safety and Pollution Prevention.

[FR Doc. 2014-10809 Filed 5-7-14; 4:15 pm]

BILLING CODE 6560-50-P